GENERAL SERVICES ADMINISTRATION

[OMB Control No. 3090-0329; Docket No. 2026-0001; Sequence No. 1]

Information Collection; Overseas Employment Service Agreement (GSA Form 5040)

AGENCY: Office of Human Resource Management, Human Capital Strategic Planning and Programs Division, General Services Administration (GSA).

ACTION: Notice; request for comments.

SUMMARY: Under the provisions of the Paperwork Reduction Act, the Regulatory Secretariat Division will be submitting to the Office of Management and Budget (OMB) a request to review and approve an extension to an existing information collection requirement.

DATES: Submit comments on or before April 28, 2026.

ADDRESSES: Submit comments identified by Information Collection 3090-0329; “Overseas Employment Service Agreement (GSA Form 5040)” to: https://www.regulations.gov. Submit comments via the Federal eRulemaking portal by searching for “Information Collection 3090-0329; Overseas Employment Service Agreement (GSA Form 5040).” Select the link “Submit a Comment” that corresponds with “Information Collection 3090-0329; Overseas Employment Service Agreement (GSA Form 5040).” Follow the instructions provided at the “Submit a Comment” screen. Please include your name, company name (if any), and “Information Collection 3090-0329; Overseas Employment Service Agreement (GSA Form 5040)” on your attached document. If your comment cannot be submitted using https://www.regulations.gov, call or email the points of contact in the FOR FURTHER INFORMATION CONTACT section of this document for alternate instructions.

Instructions: Please submit comments only and cite “Information Collection 3090-0329; Overseas Employment Service Agreement (GSA Form 5040),” in all correspondence related to this collection. Comments received generally will be posted without change to http://www.regulations.gov, including any personal and/or business confidential information provided. To confirm receipt of your comment(s), please check www.regulations.gov, approximately two-to-three days after submission to verify posting.

FOR FURTHER INFORMATION CONTACT: Colin C. Bennett, Human Resources Specialist, Office of Human Resources Management, Human Capital Planning and Programs Division, at telephone 240-418-6822 or via email to colin.bennett@gsa.gov for clarification of content.

SUPPLEMENTARY INFORMATION:

A. Purpose

Federal leave law (5 U.S.C. 6304(b) and 6305) requires that employees be on defined, time-limited, foreign tours of duty as well as have agency agreements in place for return transportation. The Department of State Standardized Regulations (DSSR) covering living quarters allowance (5 U.S.C. 5923(a)(2) and DSSR 031.12) also require documented tours of duty with an agency commitment for return transportation. At GSA, the overseas tour of duty and permanent change of station commitments and requirements are contained within a single, standard agency form: GSA Form 5040, the “Overseas Employment and Service Agreement”. As part of the Federal Travel Regulations (FTR) (41 CFR part 302), when an agency pays for permanent change of station the employee must commit to at least one year of subsequent agency service. This form also contains clauses that serve to create an enforceable service agreement under the FTR.

This form was first developed during 2022 and was published for public comment on February 14, 2023 (88 FR 9521) and then on June 8, 2023 (88 FR 37542). Our agency has subsequently used this form to determine leave benefits and foreign allowance eligibility, advise employees of their rights and responsibilities, and ensure that the human resources and payroll accounting records are accurate before, during and after the permanent change of station.

B. Annual Reporting Burden

Respondents: 25 per year.

Responses per Respondent: 1.

Total Annual Responses: 25.

Hours per Response: 8.

Total Burden Hours: 200.

C. Public Comments

Public comments are currently being solicited to help GSA understand whether any modifications or improvements to GSA Form 5040 are necessary, or would be beneficial, to streamline the leave and allowance eligibility approval process. Interested persons are also invited to send comments regarding: (a) whether this collection of information is necessary, (b) whether it will have practical utility, (c) whether our estimate of the public burden of this collection of information is accurate, and (d) whether or not there might be ways to minimize the data collection burden through the use of information technology.

Obtaining Copies of Proposals: Please visit the GSA Forms Library at https://www.gsa.gov/forms-library to view and/or download a copy of GSA Form 5040. Requesters may obtain a copy of the information collection documents from the GSA, Regulatory Secretariat Division by emailing GSARegSec@gsa.gov. Please cite OMB Control No. 3090-0329, “Overseas Employment Service Agreement (GSA Form 5040),” in all correspondence.

Patrick Dale,
Team Lead, Regulatory Secretariat Division, General Services Administration.

[FR Doc. 2026-03990 Filed 2-26-26; 8:45 am]

BILLING CODE 6820-FM-P